ENVIRONMENTAL PROTECTION AGENCY

[EPA-HQ-ORD-2013-0292; FRL-11270-01-ORD]

Public Comment on the Cumulative Risk Assessment Guidelines for Planning and Problem Formulation; Extension of the Comment Period

AGENCY: Environmental Protection Agency (EPA).

ACTION: Notice of public comment period; extension.

SUMMARY: The U.S. Environmental Protection Agency (EPA) is announcing an extension of the public comment period by 15 days for the draft Cumulative Risk Assessment Guidelines for Planning and Problem Formulation. The original Federal Register document announcing the public comment period was published on June 16, 2023.

DATES: The public comment period for the notice published on June 16, 2023 (88 FR 39424) is being extended by 15 days. The EPA must receive comments on or before August 30, 2023, to be considered.

ADDRESSES: You may send comments, identified by Docket ID No. EPA-HQ-ORD-2013-0292, by any of the following methods:

• Federal eRulemaking Portal: https://www.regulations.gov/ (our preferred method). Follow the online instructions for submitting comments.

• Mail: U.S. Environmental Protection Agency, EPA Docket Center, Office of Research and Development Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this notice. Comments received may be posted without change to https://www.regulations.gov/, including any personal information provided. For detailed instructions on sending comments and additional information on the public comment process, see the SUPPLEMENTARY INFORMATION section of this document.

FOR FURTHER INFORMATION CONTACT: For information on the public comment period, contact the ORD Docket at the EPA Headquarters Docket Center; telephone: 202-566-1752; facsimile: 202-566-9744; or email: Docket_ORD@epa.gov. For technical information on the draft guidelines or information on the public comment period, contact Dr. Lawrence Martin, via email at: martin.lawrence@epa.gov; or via phone/voicemail at 202-308-5642.

SUPPLEMENTARY INFORMATION: EPA published the CRA Guidelines for Planning and Problem Formulation on June 16, 2023, in the Federal Register (88 FR 39424), which included a request for public comments on or before August 15, 2023, on the draft CRA guidelines document (available in the docket). The purpose of this notice is to extend the public comment period.

The public can submit comments, identified by Docket ID No. EPA-HQ-ORD-2013-0292, at https://www.regulations.gov/ or the other methods identified in the ADDRESSES section.

I. How To Submit Technical Comments to the Docket at https://www.regulations.gov

The public can submit comments, identified by Docket ID No. EPA-HQ-ORD-2013-0292 for the CRA Guidelines for Planning and Problem Formulation, by one of the following methods:

• www.regulations.gov: Follow the on-line instructions for submitting comments.

• Email: Docket_ORD@epa.gov.

• Fax: 202-566-9744.

• Mail: U.S. Environmental Protection Agency, EPA Docket Center (EPA-HQ-ORD-2013-0292), Mail Code: 28221T, 1200 Pennsylvania Avenue NW, Washington, DC 20460. The phone number is 202-566-1752. For information on visiting the EPA Docket Center Public Reading Room, visit https://www.epa.gov/dockets. The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by mail or hand delivery, please submit three copies of the comments. For attachments, provide an index, number pages consecutively with the comments, and submit an unbound original and three copies.

Instructions: Direct your comments to docket number EPA-HQ-ORD-2013-0292 for the CRA Guidelines for Planning and Problem Formulation. If you are commenting on specific text in the document, please use the page and line number to identify the text to which you refer. General recommendations or comments are best tied to a specific section in the text that comes closest to addressing the issue you are commenting upon. If no such section exists, then a recommendation for a new section heading is helpful. Please provide citations for any technical information and/or data used to support the information you provide. To ensure proper receipt by the EPA, be sure to identify the docket ID number assigned to this action in the subject line on the first page of your response.

Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information for which disclosure is restricted by statute. Do not submit information through www.regulations.gov or email that you consider to be CBI or otherwise protected. The www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Publicly available docket materials are available either electronically in www.regulations.gov or in hard copy at the ORD Docket in the EPA Headquarters Docket Center.

III. How will comments be used?

Public comment received on the draft CRA Guidelines for Planning and Problem Formulation will be reviewed and considered to be incorporated into or modify text in the final revised draft of the Guidelines. The final draft Guidelines will then undergo internal EPA review and revision, and then be finalized for publication.

Mary Ross,
Director, Office of Science Advisor, Policy, and Engagement.

[FR Doc. 2023-17314 Filed 8-11-23; 8:45 am]

BILLING CODE 6560-50-P